DEPARTMENT OF THE INTERIOR

Bureau of Land Management

[LLCAN00000.L18200000.ZX0000]

Cancellation Notice, Public Meeting: Northwest California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northwest California Resource Advisory Council meeting previously announced is cancelled.

DATES: The meeting had been scheduled for Thursday and Friday, October 29 and 30, 2009, in Calistoga, California (Federal Register, October 2, 2009, Volume 74, Number 190, Page 50988). A new meeting date will be announced.

FOR FURTHER INFORMATION CONTACT: Nancy Haug, BLM Northern California District Manager, (530) 221-1743; or BLM Public Affairs Officer Joseph J. Fontana, (530) 252-5332.

Dated: October 19, 2009.
Joseph J. Fontana,
Public Affairs Officer.

[FR Doc. E9-25656 Filed 10-23-09; 8:45 am]

BILLING CODE 4310-40-P